DEPARTMENT OF HOMELAND SECURITY

Coast Guard

[Docket No. USCG-2014-0515]

Public Workshop Related to the International Maritime Organization's Development of a Mandatory Code for Ships Operating in Polar Waters.

AGENCY: Coast Guard, DHS.

ACTION: Notice of meeting; request for comments.

SUMMARY: The Coast Guard will hold a public workshop in Seattle, WA on topics related to the development of a mandatory code for ships operating in polar waters (Polar Code) by the International Maritime Organization (IMO). Various topics will be discussed including application and certification under the Polar Code; and regulations for hull design, equipment, operations, and environmental protection. This workshop is intended to be an interactive exchange of information between policymakers, industry experts, and interested members of the public.

DATES: The public workshop will be held on Thursday, August 14, 2014 from 9 a.m. to 4 p.m., Pacific Time. This workshop is open to the public. Please note that the workshop has a limited number of seats and may close early if all business is finished.

The comment period for the docket closes September 1, 2014. All comments and related material submitted after the meeting must either be submitted to our online docket via http://www.regulations.gov on or before September 1, 2014, or reach the Docket Management Facility by that date.

ADDRESSES: The public workshop will be held at the Henry M. Jackson Federal Building, 915 2nd Avenue, North Auditorium, 4th floor, Seattle, WA 98174-1076. Due to building security requirements, each visitor must present a valid government-issued photo identification (for example, a driver's license) in order to gain entrance to the building. To facilitate the security process related to building access, or to request reasonable accommodation, those who plan to attend should contact the meeting coordinator, Lieutenant Andrew Gibbons (see FOR FURTHER INFORMATION CONTACT) not later than August 1, 2014. The Coast Guard may not be able to accommodate requests made after August 1, 2014.

Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: If you have questions concerning the workshop, please call or email Lieutenant Andrew Gibbons, U.S. Coast Guard; telephone 202-372-1485, email Andrew.T.Gibbons@uscg.mil. If you have questions on viewing or submitting material to the docket, call Cheryl Collins, Program Manager, Docket Operations, telephone 202-366-9826, toll free 1-800-647-5527.

SUPPLEMENTARY INFORMATION:

Discussion

This workshop is intended to be an interactive exchange of information between policymakers, industry experts, and interested members of the public. The primary topics that will be considered at the public meeting include:

• General overview of the draft Polar Code;

• Overview of draft amendments to the International Convention for the Safety of Life at Sea (SOLAS);

• Overview of draft amendments to the International Convention for the Prevention of Pollution from Ships (MARPOL);

• Application, certification, and documentation.

This workshop is scheduled following progress at IMO during recent meetings of the Maritime Safety Committee (MSC); Marine Environment Protection Committee (MEPC); and subcommittees on the Human Element, Training, and Watchkeeping; Navigation, Communication, and Search and Rescue; and Ship Design and Construction. The public workshop will also provide the opportunity for comment as the Coast Guard prepares for upcoming meetings in October 2014 and November 2014 of MEPC and MSC at IMO.

You may view the draft Polar Code, draft SOLAS amendments, draft MARPOL amendments, and public comments submitted thus far in our online docket. Please see below for more information on viewing comments and documents. Comments submitted to the docket and informal public comments during the workshop are encouraged.

Please note that the workshop has a limited number of seats and may close early if all business is finished.

Members of the public may attend this workshop up to the seating capacity of the room. To facilitate the security process related to building access, or to request reasonable accommodation, those who plan to attend should contact the meeting coordinator, Lieutenant Andrew Gibbons (see FOR FURTHER INFORMATION CONTACT) not later than Friday August 1, 2014. We may not be able to accommodate requests made after August 1, 2014.

Members of the public are encouraged to participate and join in discussions, subject to the discretion of the moderator. If you bring written comments to the meeting, you may submit them to Coast Guard personnel specified at the meeting to receive written comments. These comments will be submitted to our online public docket.

Comments should be marked with docket number USCG-2014-0515 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

For information on facilities or services for individuals with disabilities or to request special assistance at the meeting, contact Lieutenant Andrew Gibbons (see FOR FURTHER INFORMATION CONTACT).

This notice is issued under the authority of 5 U.S.C. 552(a).

Dated: June 25, 2014.
J. G. Lantz,
Director of Commercial Regulations and Standards, U.S. Coast Guard.

[FR Doc. 2014-15457 Filed 6-30-14; 8:45 am]

BILLING CODE 9110-04-P